DEPARTMENT OF HOUSING AND URBAN DEVELOPMENT

[Docket No. FR-6271-N-04]

Final Determination: Adoption of Energy Efficiency Standards for New Construction of HUD- and USDA-Financed Housing; Extension of HUD Compliance Dates

AGENCY: Department of Housing and Urban Development (HUD).

ACTION: Notice; extension of compliance dates.

SUMMARY: On April 26, 2024, HUD and the U.S. Department of Agriculture published the “Final Determination: Adoption of Energy Efficiency Standards for New Construction of HUD- and USDA-Financed Housing” Notice (Final Determination) in the Federal Register. The Final Determination provides compliance dates for HUD programs covered by the Final Determination. This notice delays compliance dates by six months over the published compliance dates for covered projects in the following programs: Federal Housing Administration-Insured (FHA-Insured) Multifamily, FHA-Insured Single Family, Public Housing Capital Fund, and Competitive Grants (Choice Neighborhoods, Section 202, Section 811). This notice delays the compliance date for Section 8 Project Based Vouchers (PBV) until April, 2026.

DATES: Applicable March 10, 2025.

FOR FURTHER INFORMATION CONTACT: Lauren Hayes, Office of Environment and Energy, Department of Housing and Urban Development, 451 7th Street SW, Room 7272, Washington, DC 20410; email energyaction@hud.gov; telephone number 202-402-4270 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

I. Background

On April 26, 2024, HUD and the U.S. Department of Agriculture published the Final Determination (89 FR 33112), which adopted the 2021 edition of the International Energy Conservation Code (IECC) and the 2019 edition of ANSI/ASHRAE/IES Standard 90.1: Energy Standard for Buildings, Except Low-Rise Residential Buildings (ASHRAE 90.1) as the minimum energy standards for new construction of buildings in programs covered by section 109 of the Cranston-Gonzalez National Affordable Housing Act of 1990 (42 U.S.C. 12709), as amended by the Energy Independence and Security Act of 2007 (EISA) (Pub. L. 110-140).

In Section VI of the Final Determination, the Departments provided Table 32, which lists compliance dates for the updated energy efficiency standards, also available with further guidance for HUD programs at https://www.hudexchange.info/programs/minimum-energy-standards/.

II. Delay of Compliance Dates

HUD is delaying the compliance dates for the Final Determination's dates that have not yet passed. The compliance dates for the following programs are extended by six months: Federal Housing Administration-Insured (FHA-Insured) Multifamily, FHA-Insured Single Family, Public Housing Capital Fund, and Competitive Grants (Choice Neighborhoods, Section 202, Section 811). The compliance date for Section 8 Project Based Vouchers is extended until April 1, 2026.

The six month delay will provide additional time for the administration to review questions of fact, law and policy supporting the Final Determination and determine the need for HUD to develop further technical assistance. Additionally, the delay for Section 8 Project Based Vouchers will allow time for HUD to seek comment and publish further guidance on compliance for Section 8 PBV. HUD is not amending the compliance date for the HOME Investment Partnerships Program (HOME) and the Housing Trust Fund (HTF) Program, which has already passed. As stated on HUD Exchange, if HOME and HTF projects receive layered funding with other HUD funds covered by this notice as listed in the table below, the later compliance date applies. HUD confirms that HOME and HTF projects with funding from a program covered by this compliance date extension do not have to comply with the Final Determination until the new extended date. See https://www.hudexchange.info/programs/minimum-energy-standards/ for more information. Program participants who may have difficulty meeting compliance dates that have already passed should contact HUD.

The updated compliance dates are as follows:

Program | Initiation event | Compliance date
HOME and HTF (If HOME/HTF funding is layered with other HUD funds, the later program compliance date applies) | Participating Jurisdiction (PJ) or HTF Grantee Funding Commitment | 180 days after effective date: November 28, 2024.
Federal Housing Administration-Insured (FHA-Insured) Multifamily | Pre-application Submitted to HUD | 18 months after effective date: November 28, 2025.
FHA-Insured Single Family | Building Permit Application | 24 months after effective date: May 28, 2026.
Public Housing Capital Fund | HUD approvals of development proposals for new Capital Fund or mixed financed projects | 18 months after effective date: November 28, 2025.
Project Based Vouchers | To be determined in further guidance | April 1, 2026.
Competitive Grants (Choice Neighborhoods, Section 202, Section 811) | Notice of Funding Opportunity (NOFO) Publication | Next published NOFO after six months from the date of publication of this notice.
All programs, persistent poverty rural areas | Based on program-specific event, above | 24 months after effective date: May 28, 2026.
Rental Assistance Demonstration (RAD) | N/A | Already effective by Federal Register Notice July 27, 2023.

III. Findings and Certifications

Environmental Impact

This notice provides updated compliance deadlines for the Final Determination. A Finding of No Significant Impact was prepared on the preliminary determination that preceded the Final Determination and remained applicable to the Final Determination. Accordingly, under 24 CFR 50.19(c)(4) this notice is categorically excluded from environmental review under the National Environmental Policy Act of 1969 (42 U.S.C. 4321).

Scott Turner,
Secretary.

[FR Doc. 2025-03758 Filed 3-7-25; 8:45 am]

BILLING CODE 4210-67-P